DEPARTMENT OF COMMERCE

Bureau of Industry and Security

President's Export Council Subcommittee on Export Administration; Notice of Open Meeting

The President's Export Council subcommittee on Export Administration (PECSEA) will meet on July 31, 2003, 10 a.m., at the U.S. Department of Commerce, Herbert C. Hoover Building, Room 3884, 14th Street between Pennsylvania and Constitution Avenues, NW., Washington, DC. The PECSEA provides advice on matters pertinent to those portions of the Export Administration Act, as amended, that deal with United States policies of encouraging trade with all countries with which the United States has diplomatic or trading relations and of controlling trade for national security and foreign policy reasons.

Agenda

1. Welcome by Under Secretary of Commerce for Industry and Security.

2. Opening remarks by the Chairman.

3. Presentation of papers or comments by the public.

4. Bureau of Industry and Security (BIS) and Export Administration update.

5. Export Enforcement update.

6. Discussion of issues.

7. Closing remarks.

A limited number of seats will be available for the public session. Reservations are not accepted. To the extent time permits, members of the public may present oral statements to the PECSEA. Written statements may be submitted at any time before or after the meeting. However, to facilitate distribution of public presentation materials to PECSEA members, the PECSEA suggests that public presentation materials or comments be forwarded before the meeting to the address listed below: Ms. Lee Ann Carpenter, BIS/EA/OSIES MS: 3876, U.S. Department of Commerce, 14th St. & Constitution Ave. NW., Washington, DC 20230.

FOR FURTHER INFORMATION CONTACT: Ms. Lee Ann Carpenter on 202-482-2583.

Dated: July 9, 2003.
James J. Jochum,
Assistant Secretary for Export Administration.

[FR Doc. 03-17804 Filed 7-14-03; 8:45 am]

BILLING CODE 3510-JT-M